DEPARTMENT OF COMMERCE

International Trade Administration

(C-475-817)

Oil Country Tubular Goods from Italy: Final Results of Five-year (Sunset) Review and Revocation of the Countervailing Duty Order

AGENCY: Import Administration, International Trade Administration, Department of Commerce.

SUMMARY: On June 1, 2006, the Department of Commerce (the Department) published in the Federal Register the notice of initiation of the second five-year sunset review of the countervailing duty order on oil country tubular goods (OCTG) from Italy, pursuant to section 751(c) of the Tariff Act of 1930, as amended (the Act). See Initiation of Five-year (“Sunset”) Reviews, 71 FR 31153 (June 1, 2006) (Second Sunset Review). The Department has conducted an expedited sunset review as provided for in section 751(c)(3)(B) of the Act and 19 CFR 351.218(e)(1)(ii)(C). As a result of this sunset review, the Department finds that revocation of the countervailing duty order would not be likely to lead to continuation or recurrence of a countervailable subsidy. Therefore, the Department is revoking this countervailing duty order.

EFFECTIVE DATE: July 25, 2006

FOR FURTHER INFORMATION CONTACT: Jun Jack Zhao or Sean Carey, AD/CVD Operations, Office 6, Import Administration, International Trade Administration, U.S. Department of Commerce, 14th Street & Constitution Avenue, N.W., Washington, D.C. 20230; telephone: (202) 482-1396 or (202) 482-3964, respectively.

SUPPLEMENTARY INFORMATION:

Background

The countervailing duty order on OCTG from Italy was published in the Federal Register on August 10, 1995. See Notice of Countervailing Duty Order: Oil Country Tubular Goods (“OCTG”) From Italy, 60 FR 40822 (August 10, 1995). On March 8, 2001, the Department published in the Federal Register the final results of the first sunset review of the countervailing duty order on OCTG from Italy, pursuant to the Act. See Oil Country Tubular Goods (“OCTG”) From Italy; Final Results of Sunset Review of Countervailing Duty Order, 66 FR 13910 (March 8, 2001). In that review, the Department determined that the revocation of the CVD order would likely to lead to continuation or recurrence of countervailable subsidies at the same rate as found in the final determination. Following the affirmative injury determination by the International Trade Commission (ITC) and pursuant to 19 CFR 351.218(e)(4), the Department published a notice of continuation of the order. See Continuation of Countervailing and Antidumping Duty Orders on Oil Country Tubular Goods From Argentina, Italy, Japan, Korea and Mexico, and Partial Revocation of Those Orders From Argentina and Mexico With Respect to Drill Pipe, 66 FR 38630 (July 25, 2001) (Continuation of Orders).

On June 1, 2006, pursuant to section 751(c) of the Act, the Department initiated the second sunset review of the countervailing duty order on OCTG from Italy. See Second Sunset Review. The Department received notices of intent to participate from United States Steel Corporation, IPSCO Tubulars, Inc., Lone Star Steel Company, Koppel Steel (NS Group), Maverick Tube Corporation, Newport Steel (NS Group), V&M Star LP (collectively, “domestic interested parties”), within the deadline specified in 19 CFR 351.218(d)(1)(i). Domestic interested parties claimed interested party status under section 771(9)(C) of the Act, as U.S. manufacturers of the domestic like product. Moreover, certain domestic interested parties were petitioners in the original investigation and have participated in subsequent reviews before the Department.

The Department received substantive responses within the deadline specified in section 19 CFR 351.218(d)(3)(i) from domestic interested parties, the Government of Italy (GOI), the European Union/Delegation of the European Commission (EU), Dalmine S.p.A. (Dalmine), and Arvedi Tubi Acciaio S.p.A. (Arvedi).¹ The Department also received timely filed rebuttal comments from the domestic interested parties.²

¹ Dalmine is a manufacturer and exporter of the subject merchandise. Arvedi indicated in its substantive response that it no longer produces the merchandise subject to this order. Therefore, Arvedi is not an interested party in accordance with 771(9)(A) of the Act.

² On June 29 and July 5, 2006, the Department received a substantive response and rebuttal comments, respectively, from IPSCO Tubulars, Inc., Lone Star Steel Company, Koppel Steel (NS Group), Maverick Tube Corporation, Newport Steel (NS Group), V&M Star LP. On July 3 and July 14, 2006, the Department received a substantive response and rebuttal comments, respectively, from United States Steel Corporation.

In addition to meeting the other requirements of section 351.218(d)(3) of the Department's regulations, the GOI provided information on the volume and value of exports of subject merchandise to the United States. Further, Dalmine reported exports of zero during the period of this sunset review (January 2001 through December 2005). The Department's regulations provide that the Secretary “normally will conclude that respondent interested parties have provided adequate response to a notice of initiation where it receives complete substantive responses . . . from respondent interested parties accounting on average for more than 50 percent, on a volume basis (or value, if appropriate), of the total exports of subject merchandise to the United States over the five calender years preceding the year of publication of the notice of initiation.” (See 19 CFR 351.218(e)(1)(ii)(A)). Dalmine's exports of subject merchandise to the United States during the period 2001 - 2005 did not account for more than 50 percent of total exports of subject merchandise. As such, the Department found the respondents' responses to be inadequate and therefore, has conducted an expedited sunset review of the countervailing duty order,³ pursuant to 19 CFR 351.218(e)(1)(ii)(A) and 351.218(e)(1)(ii)(C). In accordance with 19 CFR 351.218(e)(1)(ii)(C)(2), the Department notified the ITC that respondent interested parties provided inadequate response to the notice of Initiation of Five-year (“Sunset”) Review.⁴

³ See July 21, 2006 Memorandum from the sunset team to Stephen J. Claeys, Deputy Assistant Secretary for Import Administration, through Barbara E. Tillman, Director, AD/CVD Operations, Office 6, Adequacy Determination: Sunset Review of the Countervailing Duty Order on Oil Country Tubular Goods from Italy (Second Review)

⁴ See July 25, 2006 letter to Robert Carpenter, Director, Office of Investigations, ITC, from Edward C. Yang, Senior Enforcement Coordinator, AD/CVD Operations, Office of China/NME Compliance, Import Administration.

On October 2, 2006, the Department extended the deadline to issue the final results to December 19, 2006, in accordance with sections 751(c)(5)(B) and 751(c)(5)(C) of the Act. See Oil Country Tubular Goods from Italy: Extension of Time Limit for Final Results of Expedited Five-year (Sunset) Review of Countervailing Duty Order, 71 FR 57922 (October 2, 2006). On November 8 and 10, 2006, the Department conducted verification in Italy of the GOI's and Dalmine's substantive responses. On November 17, 2006, the Department issued verification reports on GOI and Dalmine. See November 17, 2006 memoranda to the file Countervailing Duty Sunset Review of Oil Country Tubular Goods from Italy: Verification of the Government of Italy's (GOI) Substantive Questionnaire Response and Countervailing Duty Sunset Review of Oil Country Tubular Goods from Italy: Verification of Dalmine's Sales and Substantive Questionnaire Response. On November 27, 2006, the Department received comments from the GOI regarding the verification report. The Department did not receive comments from other interested parties.

Scope of the Order

Imports covered by this order are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.21.30.00, 7403.21.60.00, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this proceeding is dispositive.

Analysis of Comments Received

All issues raised in substantive responses and in comments on the verification reports by parties in this sunset review are addressed in the Issues and Decision Memorandum for Final Results of Expedited Five-year (Sunset) Review of the Countervailing Duty Order on Oil Country Tubular Goods from Italy, from Stephen J. Claeys, Deputy Assistant Secretary for Import Administration, to David M. Spooner, Assistant Secretary for Import Administration, dated September 29, 2006 (Decision Memo), which is hereby adopted by this notice.

Parties can find a complete discussion of all issues raised in this sunset review and the corresponding recommendation in this public memorandum which is on file in Room B-099, the Central Records Unit, of the main Commerce building. In addition, a complete version of the Decision Memo can be accessed directly on the Department's Web page at http://ia.ita.doc.gov/frn. The paper copy and electronic version of the Decision Memo are identical in content.

Final Results of Review

The Department determines that revocation of the countervailing duty order on OCTG from Italy would not be likely to lead to continuation or recurrence of a countervailable subsidy. As a result, we are revoking this order effective July 25, 2006, the fifth anniversary of the date of publication in the Federal Register of the notice of continuation of the CVD order on OCTG from Italy. See Continuation of Orders. We will notify the ITC of these results. Furthermore, we intend to instruct U.S. Customs and Border Protection, 15 days after the publication of this notice, to terminate suspension of liquidation, effective July 25, 2006.

Notification Regarding Administrative Protective Order

This notice also serves as the only reminder to parties subject to administrative protective orders (APO) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: December 18, 2006.
David M. Spooner,
Assistant Secretary for Import Administration.

[FR Doc. E6-22077 Filed 12-22-06; 8:45 am]

BILLING CODE 3510-DS-S